LEGAL SERVICES CORPORATION

Sunshine Act Meeting Notice; Board of Directors and Five Committees of the Board

DATE AND TIME: The Legal Services Corporation Board of Directors and five of the Board's committees will meet on January 29-30, 2010 in the order set forth in the following schedule. On January 29, the first meeting will commence at 11 a.m., Eastern Time. Each meeting thereafter will commence promptly upon adjournment of the immediately preceding meeting. On January 30, the first meeting will commence at 9 a.m., Eastern Time.

LOCATION: Legal Services Corporation, 3333 K Street, NW., Washington, DC 20007, 3rd Floor Conference Center.

PUBLIC OBSERVATION: For all meetings and portions thereof open to public observation, members of the public who are unable to attend but wish to listen to the proceedings may do so by following the telephone call-in directions given below. You are asked to keep your telephone muted to eliminate background noises. From time to time the presiding Chairman may solicit comments from the public.

Call-In Directions for Open Sessions

• Call toll-free number: 1-(866) 451-4981;

• When prompted, enter the following numeric pass code: 5907707348;

• When connected to the call, please “MUTE” your telephone immediately.

Meeting Schedule

| Time ¹
Friday, January 29, 2010
1. Audit Committee | 11 a.m.
2. Governance & Performance Review Committee
3. Provision for the Delivery of Legal Services Committee (“Provisions Committee”)
4. Finance Committee
Saturday, January 30, 2010
5. Operations & Regulations Committee | 9 a.m.
6. Board of Directors

STATUS OF MEETING: Open, except as noted below.

¹ Please note that all times in this notice are Eastern Time.

• Board of Directors—Open, except that a portion of the meeting of the Board of Directors may be closed to the public pursuant to a vote of the Board of Directors to consider and perhaps act on the General Counsel's report on potential and pending litigation involving LSC, and to hear a report on an internal personnel matter. The closed session will also include a briefing by LSC's Inspector General.² A verbatim written transcript will be made of the closed session of the Board meeting. However, the transcript of any portions of the closed session falling within the relevant provisions of the Government in the Sunshine Act, 5 U.S.C. 552b(c)(2), (6) and (9)(B), and the corresponding provisions of the Legal Services Corporation's implementing regulation, 45 CFR 1622.5(a), (e) and (g), will not be available for public inspection. A copy of the General Counsel's Certification that in his opinion the closing is authorized by law will be available upon request.

² Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

Matters To Be Considered

Audit Committee

Agenda

1. Approval of agenda.

2. Approval of Minutes of the Committee's Open Session meeting of October 30, 2009.

3. Approval of Minutes of the Audit & Finance Committees' Open Session joint meeting of November 30, 2009.

4. Presentation of the Fiscal Year (FY) 2009 Annual Financial Audit.

• Ronald “Dutch” Merryman, Assistant Inspector General for Audits.

• Uzma Malik-Dorman, Thompson, Cobb, Bazilio & Associates.

5. Review of LSC's IRS Form 990 for FY 2009.

• David Richardson, Treasurer & Comptroller.

6. Staff report on classification of LSC consultants.

• Mattie Cohan, Senior Assistant General Counsel.

7. Report on LSC's 403(b) plan performance.

• Charles Jeffress, Chief Administrative Officer.

8. Inspector General briefing.

• Jeffrey Schanz, Inspector General.

9. Public comment.

10. Consider and act on other business.

11. Consider and act on adjournment of meeting.

Governance and Performance Review Committee

Agenda

1. Approval of Agenda.

2. Approval of Minutes of the Committee's Open Session meeting of October 31, 2009.

3. Approval of Minutes of the Committee's Open Session meeting of November 30, 2009.

4. Consider and act on self-assessment documents for 2009.

• Chairman's observations on individual self-assessments and possible follow-up.

• Chairman's observations on results of the Board self-assessment and the upcoming full Board discussion.

5. New Board training plan for 2010.

• Victor Fortuno, General Counsel & Interim President John Constance, Director, Office of Government Relations & Public Affairs.

6. Consider and act on other business.

7. Public Comment.

8. Consider and act on motion to adjourn meeting.

Provision for the Delivery of Legal Services Committee

Agenda

1. Approval of agenda.

2. Approval of Minutes of the Committee's Open Session meeting of October 30, 2009.

3. Staff status report on proposed Provisions Committee Agenda items for 2010 Committee meetings.

• Karen Sarjeant, Vice President for Programs & Compliance.

a. LSC Private Attorney Involvement Action Plan—Help Close the Justice Gap: Unleash the Power of Pro Bono.

b. Garten Loan Repayment Assistance Program.

c. Special Population Funding and Delivery (Native American and Migrant).

d. Board Governance Work Group Activities.

e. LSC training initiatives: compliance, board governance, and fiscal operations training.

f. Legal services delivery issues affected by changes in law and regulations.

g. Additional items proposed by Committee members.

4. Public comment.

Finance Committee

Agenda

1. Approval of agenda.

2. Approval of Minutes of the Committee's Open Session meeting of October 31, 2009.

3. Approval of Minutes of the Audit & Finance Committees' Open Session joint meeting of November 30, 2009.

4. Consider and act on Consolidated Operating Budget for Fiscal Year (FY) 2010, Resolution 2009-001.

• Presentation by David Richardson, Treasurer & Comptroller.

• Comments by Charles Jeffress, Chief Administrative Officer.

5. Presentation on LSC's Financial Reports for the first three months of FY 2010.

• Presentation by David Richardson.

• Comments by Charles Jeffress.

6. Staff report on submission of FY 2011 budget request.

• Presentation by John Constance, Director, Office of Government Relations & Public Affairs.

7. Staff report on IRS review of classification of LSC consultants.

• Presentation by Mattie Cohan, Senior Assistant General Counsel.

8. Public comment.

9. Consider and act on other business.

10. Consider and act on adjournment of meeting.

Operations & Regulations Committee

Agenda

1. Approval of agenda.

2. Approval of Minutes of the Committee's Open Session meeting of October 30, 2009.

3. Consider and act on potential initiation of rulemaking to amend 45 CFR Part 1642 (and related technical amendment of Part 1609 and 1610) to repeal the prohibition on claiming and collecting and retention of attorneys' fees.

• Presentation by Mattie Cohan, Senior Assistant General Counsel.

• Public Comment.

4. Consider and act on potential initiation of rulemaking to amend 45 CFR Part 1607 to require grantee governing bodies to have audit committees.

• Presentation by Mattie Cohan.

• Public Comment.

5. Consider and act on potential initiation of rulemaking to amend 45 CFR Part 1622 to remove from its requirements the Board's Governance & Performance Review Committee when it is meeting to consider performance evaluations of the President and the Inspector General.

• Presentation by Mattie Cohan.

• Public Comment.

6. Consider and act on the LSC Board of Directors' role in collective bargaining.

• Presentation by Victor Fortuno, General Counsel & Interim President.

7. Report on status of GAO review.

• Presentation by John Constance, Director, Office of Government Relations and Public Affairs.

8. Public comment.

9. Consider and act on other business.

10. Consider and act on adjournment of meeting.

Board of Directors

Agenda

Open Session

1. Approval of agenda.

2. Approval of Minutes of the Board's Open Session meeting of October 31, 2009.

3. Approval of Minutes of the Board's Open Session Telephonic meeting of November 23, 2009.

4. Consider and act on nominations for the Chairman of the Board of

Directors.

5. Consider and act on nominations for the Vice Chairman of the Board

of Directors.

6. Consider and act on delegation to the Chairman of authority to make Committee assignments.

7. Chairman's Report.

8. Members' Reports.

9. President's Report.

10. Inspector General's Report.

11. Consider and act on the report of the Provision for the Delivery of Legal Services Committee.

12. Consider and act on the report of the Finance Committee.

13. Consider and act on the report of the Audit Committee.

14. Consider and act on the report of the Operations & Regulations Committee.

15. Consider and act on the report of the Governance & Performance Review Committee.

16. Consider and act on Resolution 2010-002 Recognizing Helaine M. Barnett for Six Years of Dedicated Service as President of the Legal Services Corporation.

17. Public comment.

18. Consider and act on other business.

19. Consider and act on whether to authorize an executive session of the Board to address items listed below under Closed Session.

Closed Session

20. Consider and act on General Counsel's report on potential and pending litigation involving LSC.

21. IG briefing of the Board.

22. Report on Internal Personnel Matter.

23. Consider and act on motion to adjourn meeting.

Contact Person for Information: Katherine Ward, Executive Assistant to the Vice President & General Counsel, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward, at (202) 295-1500 or FR_NOTICE_QUESTIONS@lsc.gov.

Dated: January 22, 2010.
Patricia D. Batie,
Acting Corporate Secretary.

[FR Doc. 2010-1562 Filed 1-22-10; 11:15 am]

BILLING CODE 7050-01-P